DEPARTMENT OF THE INTERIOR

National Park Service

Notice of Availability of a Record of Decision (ROD) on the Final General Management Plan/Environmental Impact Statement (FGMP/EIS), Abraham Lincoln Birthplace National Historic Site

SUMMARY: The National Park Service (NPS) announces the availability of the ROD on the FGMP/EIS for Abraham Lincoln Birthplace National Historic Site, Kentucky. This is being done pursuant to the National Environmental Policy Act of 1969, 42 U.S.C. 4332.

On November 29, 2006, the Regional Director, NPS, Southeast Region, approved the ROD for the project. As soon as practicable, the NPS will begin to implement the FGMP/EIS, described as the Preferred Alternative contained in the FGMP/EIS issued on October 20, 2006. The approved plan will enhance opportunities for visitors to interact with and appreciate all of the national historic site's resources while providing for the preservation or adaptive use of cultural resources when implemented. The approved plan also recommends that the official name of the site be changed to “Abraham Lincoln Birthplace National Historical Park.”

DATES: The ROD was signed by the Regional Director, NPS, Southeast Region, on November 29, 2006.

ADDRESSES: Copies of the ROD are available from the Superintendent, Abraham Lincoln Birthplace National Historic Site, 2995 Lincoln Farm Road, Hodgenville, Kentucky 42748-9707; telephone: 270-358-3137.

FOR FURTHER INFORMATION CONTACT: The Superintendent, Abraham Lincoln National Historic Site, at the address and telephone number shown above.

SUPPLEMENTARY INFORMATION: The responsible official for the ROD is Patricia A. Hooks, Regional Director, Southeast Region, National Park Service, 100 Alabama Street SW., 1924 Building, Atlanta, Georgia 30303.

Dated: January 16, 2007.
Patricia A. Hooks,
Regional Director, Southeast Region.

[FR Doc. E7-4909 Filed 3-16-07; 8:45 am]

BILLING CODE 4310-5C-P